NUCLEAR REGULATORY COMMISSION

[Docket Nos. 50-454 and 50-455; NRC-2013-0178]

Exelon Generating Company, LLC; Byron Station, Units 1 and 2

AGENCY: Nuclear Regulatory Commission.

ACTION: Supplemental environmental impact statement; issuance.

SUMMARY: The U.S. Nuclear Regulatory Commission (NRC) is issuing a final plant-specific supplement, Supplement 54, to NUREG-1437, “Generic Environmental Impact Statement for License Renewal of Nuclear Plants” (GEIS), regarding the renewal of Exelon Generating Company, LLC (Exelon) operating licenses NPF-37 and NPF-66 for Byron Station, Units 1 and 2 (Byron), respectively, for an additional 20 years of operation.

DATES: The final Supplement 54 to the GEIS is available as of July 24, 2015.

ADDRESSES: Please refer to Docket ID NRC-2013-0178 when contacting the NRC about the availability of information regarding this document. You may obtain publicly-available information related to this document using any of the following methods:

• • Federal Rulemaking Web site: Go to http://www.regulations.gov and search for Docket ID NRC-2013-0178. Address questions about NRC dockets to Carol Gallagher; telephone: 301-415-3463; email: Carol.Gallagher@nrc.gov. For technical questions, contact the individual listed in the FOR FURTHER INFORMATION CONTACT section of this document.

• • NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The final Supplement 54 to the GEIS is in ADAMS under Accession No. ML15196A263.

• • NRC's PDR: You may examine and purchase copies of public documents at the NRC's PDR, Room O1-F21, One White Flint North, 11555 Rockville Pike, Rockville, Maryland 20852.

FOR FURTHER INFORMATION CONTACT: Lois James, Office of Nuclear Reactor Regulation, U.S. Nuclear Regulatory Commission, Washington, DC 20555-0001; telephone: 301-415-3306; email: Lois.James@nrc.gov.

SUPPLEMENTARY INFORMATION:

I. Background

In accordance with § 51.118 of Title 10 of the Code of Federal Regulations, the NRC is making available final Supplement 54 to the GEIS regarding the renewal of Exelon operating licenses NPF-37 and NPF-66 for an additional 20 years of operation for Byron. Draft Supplement 54 to the GEIS was noticed by the NRC in the Federal Register on January 2, 2015 (80 FR 55), and noticed by the Environmental Protection Agency on January 2, 2015 (80 FR 41). The public comment period on draft Supplement 54 to the GEIS ended on February 20, 2015, and the comments received are addressed in final Supplement 54 to the GEIS. Final Supplement 54 to the GEIS is available as indicated in the ADDRESSES section of this document.

II. Discussion

As discussed in chapter 5 of the final Supplement 54 to the GEIS, the NRC determined that the adverse environmental impacts of license renewal for Byron are not so great that preserving the option of license renewal for energy-planning decisionmakers would be unreasonable. This recommendation is based on: (1) The analysis and findings in the GEIS; (2) information provided in the environmental report and other documents submitted by Exelon; (3) consultation with Federal, State, local, and Tribal agencies; (4) the NRC staff's independent environmental review; and (5) consideration of public comments received during the scoping process and on the Draft Supplemental Environmental Impact Statement.

Dated at Rockville, Maryland, this 16th day of July 2015.
For the Nuclear Regulatory Commission.
James G. Danna,
Chief, Projects Branch 2, Division of License Renewal, Office of Nuclear Reactor Regulation.

[FR Doc. 2015-18110 Filed 7-23-15; 8:45 am]

BILLING CODE 7590-01-P